DEPARTMENT OF STATE

[Public Notice 8257]

Notice of Amendment to the Advisory Committee on International Law Charter

The Department of State has amended the Charter of the Advisory Committee on International Law to add three additional membership positions. The Committee is comprised of all former Legal Advisers of the Department of State and, under the amended Charter, up to 28 individuals appointed by the Legal Adviser. Through the Committee, the Department of State will continue to obtain the views and advice of a cross section of the country's outstanding members of the legal profession on significant issues of international law. The Committee follows the procedures prescribed by the Federal Advisory Committee Act (FACA). Its meetings are open to the public unless a determination is made in accordance with the FACA and 5 U.S.C. 552b(c) that a meeting or portion of a meeting should be closed to the public. Notice of each meeting will be published in the Federal Register at least 15 days prior to the meeting, unless extraordinary circumstances require shorter notice. For further information, please contact Jonas Lerman, Executive Director, Advisory Committee on International Law, Department of State, at 202-776-8442 or lermanjb@state.gov.

Dated: March 19, 2013.
Jonas Lerman,
Attorney-Adviser, Office of the Legal Adviser, Department of State.

[FR Doc. 2013-06902 Filed 3-25-13; 8:45 am]

BILLING CODE 4710-08-P